DEPARTMENT OF COMMERCE

United States Patent and Trademark Office

[Docket No.: PTO-C-2014-0052]

Extension of the 2014 Application Deadline for Patents for Humanity Program

AGENCY: United States Patent and Trademark Office, Commerce.

ACTION: Notice.

SUMMARY: In April 2014, the United States Patent and Trademark Office (USPTO) renewed the Patents for Humanity Program which recognizes patent holders who use their technology for humanitarian purposes. In response to stakeholder feedback, the USPTO is extending the deadline for applications until October 31, 2014.

DATES: Effective Date: September 16, 2014.

FOR FURTHER INFORMATION CONTACT: Office of Policy and International Affairs, by telephone at (571) 272-9300; or by mail addressed to: Patents for Humanity Program, Office of Policy and International Affairs, United States Patent and Trademark Office, P.O. Box 1450, Alexandria, VA 22313-1450; or by email to patentsforhumanity@uspto.gov.

SUPPLEMENTARY INFORMATION: In April 2014, the USPTO renewed its Patents for Humanity program and announced details for 2014. See Patents for Humanity Program, 79 FR 18670 (Apr. 3, 2014). The original deadline for applications was September 15, 2014.

Stakeholders have requested an extension of time to file applications in 2014 for different reasons. First, some prospective applicants indicated that they are engaged in qualifying work which will not be complete before the deadline. Additionally, others have indicated that they do not have enough personnel available at this time of year to complete their applications.

In response to these requests, the USPTO is extending the application deadline for this year until October 31, 2014. After the application deadline, selections will be made as described in the April notice, with the goal of completing the recommendation process within 90 days. Awards will be made thereafter. The other terms of the program remain unchanged.

Dated: September 10, 2014.
Michelle K. Lee,
Deputy Under Secretary of Commerce for Intellectual Property and Deputy Director of the United States Patent and Trademark Office.

[FR Doc. 2014-22067 Filed 9-15-14; 8:45 am]

BILLING CODE 3510-16-P